DEPARTMENT OF COMMERCE

National Oceanic and Atmospheric Administration

RIN 0648-XC583

Fisheries of the Exclusive Economic Zone Off Alaska; Monitoring Requirements for American Fisheries Act Catcher Vessels Subject to Amendment 91; Public Workshops

AGENCY: National Marine Fisheries Service (NMFS), National Oceanic and Atmospheric Administration (NOAA), Commerce.

ACTION: Notice of public workshop.

SUMMARY: NMFS announces a workshop to solicit input from owners and operators of American Fisheries Act (AFA) catcher vessels and shoreside processors participating in the pollock fishery in the Bering Sea off Alaska. The workshop concerns accurate accounting of Chinook salmon bycatch in the Bering Sea pollock fishery under Amendment 91 to the Fishery Management Plan for Groundfish of the Bering Sea and Aleutian Islands. The workshop will discuss potential regulatory changes to address (1) the practice of leaving significant amounts of loose fish on the deck not contained inside the codend; (2) the installation of software and communication equipment to enhance observer data collection; and (3) the definition of directed fishing for pollock. The meeting is open to the public, but NMFS is particularly seeking participation by people who are knowledgeable about AFA catcher vessel operations in the Bering Sea pollock fishery and who can discuss with NMFS the potential operational impacts of the proposed monitoring requirements.

DATES: The workshop will be held on Thursday, May 16, 2013, from 9 a.m. to 12 p.m. Pacific daylight savings time.

ADDRESSES: The workshop will be held at the Swedish Cultural Center, 1920 Dexter Avenue N., Seattle, WA 98109. Directions to the Swedish Cultural Center are on its Web site at http://www.swedishculturalcenter.org/contacts.htm.

FOR FURTHER INFORMATION CONTACT: Jennifer Watson, 907-586-7537, or Michael Camacho, 907-586-7471.

SUPPLEMENTARY INFORMATION: NMFS is developing proposed revisions to some monitoring components of Amendment 91 for AFA catcher vessels in the Bering Sea pollock fishery. Currently, all salmon are required to be stored in refrigerated saltwater tanks prior to delivery to a shoreside processor. The intent of this requirement is to reduce the potential for sorting of catch, to prevent unlawful discarding of salmon, and to make all salmon available to the observer for census and sampling at delivery. However, loose fish on deck not contained inside the codend creates numerous challenges to the intent of this requirement.

In addition to the agency's concerns about loose fish on deck not contained inside the codend, there are additional revisions that will improve the monitoring and enforcement of Chinook salmon bycatch regulations under Amendment 91. These revisions include a requirement for all AFA catcher vessels to maintain a computer and an electronic transmission system for use by an observer and a change to specify that the Amendment 91 monitoring requirements apply when a catcher vessel named in the AFA is using pelagic gear in the Bering Sea.

This meeting is open to the public, but NMFS is particularly seeking participation by people who are knowledgeable about operations aboard AFA catcher vessels and the feasibility of preventing loose fish from remaining on deck outside the codend.

Special Accommodations

The meeting will be physically accessible to people with disabilities. Requests for sign language interpretation or other auxiliary aids should be directed to Jennifer Watson, 907-586-7537, at least 10 workdays prior to the meeting date.

Dated: March 26, 2013.
Kara Meckley,
Acting Deputy Director, Office of Sustainable Fisheries, National Marine Fisheries Service.

[FR Doc. 2013-07351 Filed 3-28-13; 8:45 am]

BILLING CODE 3510-22-P